SMALL BUSINESS ADMINISTRATION

Public Federal Regulatory Enforcement Fairness Hearing; U.S. Small Business Administration, Region IV Regulatory Fairness Board

The U.S. Small Business Administration (SBA) Region IV Regulatory Fairness Board and the SBA Office of the National Ombudsman will hold a public hearing on Thursday, March 23, 2006, at 9 a.m. The meeting will take place at the North Florida District Office Conference Room, 7825 Baymeadows Way, Suite 100B, Jacksonville, FL to receive comments and testimony from small business owners, small government entities, and small non-profit organizations concerning regulatory enforcement and compliance actions taken by Federal agencies.

Anyone wishing to attend or to make a presentation must contact Annette Paulson, in writing or by fax, in order to be put on the agenda. Annette Paulson, Acting Public Information Officer, SBA, North Florida District Office, 7825 Baymeadows Way, Suite 100B, Jacksonville, FL 32256-7504, phone (904) 443-1914, fax (904) 443-1380, e-mail: Annette.paulson@sba.gov.

For more information, see our Web site at http://www.sba.gov/ombudsman.

Matthew K. Becker,
Committee Management Officer.

[FR Doc. E6-3397 Filed 3-9-06; 8:45 am]

BILLING CODE 8025-01-P